DEPARTMENT OF AGRICULTURE

Food Safety and Inspection Service

[Docket No. FSIS-2009-0040]

Codex Alimentarius Commission: Meeting of the Codex Committee on Food Additives

AGENCY: Office of the Acting Under Secretary for Food Safety, USDA.

ACTION: Notice of public meeting and request for comments.

SUMMARY: The Office of the Acting Under Secretary for Food Safety, U.S. Department of Agriculture (USDA), and the Food and Drug Administration (FDA), U.S. Department of Health and Human Services, are sponsoring a public meeting on February 8, 2010. The objective of the public meeting is to provide information and receive public comments on agenda items and draft United States (U.S.) positions that will be discussed at the 42nd Session of the Codex Committee on Food Additives (CCFA) of the Codex Alimentarius Commission (Codex), which will be held in Beijing, China March 15-19, 2010. The Acting Under Secretary for Food Safety and FDA recognize the importance of providing interested parties the opportunity to obtain background information on the 42nd Session of the CCFA and to address items on the agenda.

DATES: The public meeting is scheduled for Monday, February 8, 2010, from 1 p.m. to 4 p.m.

ADDRESSES: The public meeting will be held in the Auditorium (1A003), FDA, Harvey Wiley Federal Building, 5100 Paint Branch Parkway, College Park, MD 20740.

Documents related to the 42nd Session of the CCFA will be accessible via the World Wide Web at the following address: http://www.codexalimentarius.net/current.asp.

The U.S. Delegate to the 42nd Session of the CCFA, Dennis Keefe, and FDA, invite interested U.S. parties to submit their comments electronically to the following e-mail address: cfsan-ccfa@fda.hhs.gov.

Registration

Attendees may register electronically at the same e-mail address provided above by February 4, 2010. Early registration is encouraged because it will expedite entry into the building and its parking area. If you require parking, please include the vehicle make and tag number when you register. Because the meeting will be held in a Federal building, you should also bring photo identification and plan for adequate time to pass through security screening systems.

Attendees that are not able to attend the meeting in-person but wish to participate may do so by phone. Those wishing to participate by phone should request the call-in number and conference code when they register for the meeting.

For Further Information About the 42nd Session of the CCFA Contact: Dennis M. Keefe, Ph.D., Manager, International Activities Office of Food Additive Safety, Center for Food Safety and Applied Nutrition, FDA, 5100 Paint Branch Parkway, College Park, MD 20740, Telephone: (301) 436-1284, Fax: (301) 436-2972, e-mail: dennis.keefe@fda.hhs.gov.

For Further Information About the Public Meeting Contact: Paul Honigfort, Ph.D, Consumer Safety Officer, Division of Food Contact Notifications, Office of Food Additive Safety CFSAN/FDA, 5100 Paint Branch Parkway HFS-275, College Park, MD 20740, Telephone: (301) 436-1206, Fax: (301) 436-2965, e-mail: paul.honigfort@fda.hhs.gov.

SUPPLEMENTARY INFORMATION:

Background

Codex was established in 1963 by two United Nations organizations, the Food and Agriculture Organization (FAO) and the World Health Organization (WHO). Through adoption of food standards, codes of practice, and other guidelines developed by its committees, and by promoting their adoption and implementation by governments, Codex seeks to protect the health of consumers and ensure that fair practices are used in trade.

The CCFA establishes or endorses permitted maximum levels for individual additives; prepares priority lists of food additives for risk assessment by the Joint FAO/WHO Expert Committee on Food Additives (JECFA); assigns functional classes to individual food additives; recommends specifications of identity and purity for food additives for adoption by Codex; considers methods of analysis for the determination of additives in food; and considers and elaborates standards or codes for related subjects such as labeling of food additives when sold as such. The CCFA is hosted by China.

Issues To Be Discussed at the Public Meeting

The following items on the agenda for the 42nd Session of the CCFA will be discussed during the public meeting:

• Matters referred by Codex and other Codex committees and task forces.

• Matters of interest arising from FAO/WHO and from the 71st Meeting of the JECFA.

• Endorsement and/or revision of maximum levels for food additives and processing aids in codex standards.

• Draft and proposed draft food additive provisions of the General Standards for Food Additives (GSFA).

• Comments and information on several food additive provisions of the GSFA.

• Comments and information on the reporting basis of the provisions for aluminum containing food additives included in the GSFA.

• Comments and information on several aspects of the Food Category System of the GSFA.

• Discussion paper on innovative proposals to expedite the work on the GSFA.

• Proposed draft guidelines and principles for substances used as processing aids.

• Inventory of substances used as processing aids, updated list.

• Proposals for changes or additions to the International Numbering System (INS) for food additives.

• Discussion paper on principles regarding the need for justification for proposals of changes to the INS.

• Specifications for the identity and purity of food additives arising from the 71st JECFA meeting.

• Proposals for additions and changes to the priority list of food additives proposed for evaluation by the JECFA.

• Discussion paper on mechanisms for re-evaluation of substances by the JECFA.

• Discussion paper on the identification of problems and recommendations related to the inconsistent presentation of food additives provisions in Codex commodity standards.

• Discussion paper on the Codex standard for food grade salt.

Each issue listed will be fully described in documents distributed, or to be distributed, by the Executive Secretariat prior to the meeting. Members of the public may access these documents (see ADDRESSES).

Public Meeting

At the February 8, 2010, public meeting, draft U.S. positions on the agenda items will be described and discussed, and attendees will have the opportunity to pose questions and offer comments. Written comments may be offered at the meeting or sent to the U.S. Delegate for the 42nd Session of the CCFA, Dr. Dennis Keefe, (see ADDRESSES). Written comments should state that they relate to activities of the 42nd Session of the CCFA.

Additional Public Notification

Public awareness of all segments of rulemaking and policy development is important. Consequently, in an effort to ensure that minorities, women, and persons with disabilities are aware of this notice, FSIS will announce it online through the FSIS Web page located at http://www.fsis.usda.gov/regulations/2010_Notices_Index/.

FSIS will also make copies of this Federal Register publication available through the FSIS Constituent Update, which is used to provide information regarding FSIS policies, procedures, regulations, Federal Register notices, FSIS public meetings, and other types of information that could affect or would be of interest to constituents and stakeholders. The Update is communicated via Listserv, a free e-mail subscription service for industry, trade groups, consumer interest groups, health professionals, and other individuals who have asked to be included. The Update is also available on the FSIS Web page. Through the Listserv and Web page, FSIS is able to provide information to a much broader and more diverse audience. In addition, FSIS offers an e-mail subscription service which provides automatic and customized access to selected food safety news and information. This service is available at http://www.fsis.usda.gov/news_and_events/email_subscription/. Options range from recalls to export information to regulations, directives, and notices. Customers can add or delete subscriptions themselves, and have the option to password protect their accounts.

Done at Washington, DC, on January 20, 2010.
Karen Stuck,
U.S. Manager for Codex Alimentarius.

[FR Doc. 2010-1666 Filed 1-27-10; 8:45 am]

BILLING CODE 3410-DM-P